DEPARTMENT OF THE INTERIOR

National Park Service

Notice of Intent To Prepare a Draft Environmental Impact Statement on the Special Resource Study for Fort King, Ocala, FL

SUMMARY: The National Park Service (NPS) will prepare a Draft Environmental Impact Statement (DEIS) to accompany its Special Resource Study (SRS) for Fort King. The NPS will conduct public scoping meetings in the local area to receive input from interested parties on issues, concerns and suggestions believed to be relevant to the management of Fort King and its potential inclusion as a unit of the National Park System. Of particular interest to the NPS are suggestions and ideas for managing cultural and natural resources and the visitor experience at Fort King. The DEIS will formulate and evaluate environmental impacts associated with various types and levels of visitor use and resources management at the site.

DATES: The dates and times of the public scoping meetings will be published in local newspapers and on the Special Resource Study web site for Fort King. These dates and times may also be obtained by contacting the NPS Southeast Regional Office, Division of Planning. Scoping suggestions will be accepted throughout the planning process but are urged to be submitted prior to July 1, 2001. The NPS anticipates that the DEIS will be available for public review by December 1, 2001.

ADDRESSES: The locations of the public scoping meetings will be published in local newspapers and on the Special Resource Study web site for Fort King which is http://www.nps.gov/sero/fortking/srs_info.htm. These locations may also be obtained by contacting the NPS Southeast Regional Office, Division of Planning.

Written scoping suggestions should be submitted to the following address: Planning Team Leader, Fort King Special Resource Study, NPS Southeast Regional Office, Division of Planning and Compliance, 100 Alabama Street, SW, 6th Floor, 1924 Building, Atlanta, Georgia 30303.

FOR FURTHER INFORMATION CONTACT: Planning Team Leader, Fort King Special Resource Study, 404-562-3124, extension 693.

SUPPLEMENTARY INFORMATION: The NPS has announced that an EIS on SRSs will be prepared for all proposed park units; consistent with this policy this EIS is being prepared. Issues currently being considered for the EIS include a determination of Fort King's national significance and an assessment of the site's suitability and feasibility as a potential addition to the National Park System as a National Historic Site. The EIS will identify cultural and natural resources of Fort King and evaluate a range of potential management options that might adequately protect these resources.

Our practice is to make comments, including names and addresses of respondents, available for public review during regular business hours. If you wish for us to withhold your name and/or address, you must state this prominently at the beginning of your comment. However, we will not consider anonymous comments. We will make all submission from organizations or businesses, and from individuals identifying themselves as representatives or officials of organizations or business, available for public inspection in their entirety.

Dated: March 2, 2001.
Patricia A. Hooks,
Regional Director, Southeast Region.

[FR Doc. 01-7379 Filed 3-23-01; 8:45 am]

BILLING CODE 4310-70-M